DEPARTMENT OF ENERGY

Federal Energy Regulatory Commission

[Project No. 2744-000]

North American Hydro Inc.; Notice To Convene Meeting on Alternative Dispute Resolution Process

July 5, 2002.

On June 24, 1997, the Commission issued an “Order Approving Feasibility Study for Fish Exclusion Measures.” The order required North American Hydro Inc. or the licensee to file a two-year feasibility study to determine the practicality of fish protection measures at the project. The project is located on the Menominee River in Marinette County, Wisconsin and Menominee County, Michigan.

On September 22, 1999 and on April 28, 2000, based on comments received from the Wisconsin and Michigan Departments of Natural Resources and the U.S. Fish and Wildlife Service, North American Hydro filed its Evaluation of Fish Exclusion Measures for Park Mill Project. Issues that remain unresolved are related to fish entrainment and mortality. These issues include monetary compensation values of the fish, appropriate fish passage protection devices, costs of fish protection measures, a fish protection fund, and compensatory mitigation.

The Commission's Dispute Resolution Service will conduct a convening session on July 25, 2002, commencing at 10:30 a.m., in the Conference Room at the Peshtigo Service Center of the Wisconsin Department of Natural Resources in Peshtigo, Wisconsin. The convening session will cover Alternative Dispute Resolution (ADR) processes and interest-based negotiation. The Dispute Resolution Service will also assist the parties in better identifying and clarifying the issues in the above-captioned docket. If a party has any questions, please call Deborah Osborne at (202) 208-0831.

Magalie R. Salas,
Secretary.

[FR Doc. 02-17441 Filed 7-10-02; 8:45 am]

BILLING CODE 6717-01-P